FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[October 1, 2016 thru October 31, 2016]
10/03/2016
20161722 | G | Hainan Cihang Charitable Foundation, Blackstone Capital Partners (Cayman II) VI L.P., Hainan Cihang Charitable Foundation.
20161727 | G | Wellforce Inc., Hallmark Health Corporation, Wellforce Inc.
10/04/2016
20161821 | G | Oaktree Power Opportunties Fund IV, L.P., Sheikh Hamad Bin Jassim Al Thani, Oaktree Power Opportunties Fund IV, L.P.
10/05/2016
20161818 | G | Unilever N.V., Seventh Generation, Inc., Unilever N.V.
10/12/2016
20161750 | G | Komatsu Ltd., Joy Global Inc., Komatsu Ltd.
20161765 | G | Greeneden Topco S.C.A., Interactive Intelligence Group, Inc., Greeneden Topco S.C.A.
20161801 | G | Madison Dearborn Capital Partners VII-A, L.P., Oak Hill Capital Partners III, L.P., Madison Dearborn Capital Partners VII-A, L.P.
20161804 | G | Google Inc., Apigee Corporation, Google Inc.
20161809 | G | Vista Foundation Fund III, L.P., Actua Corporation, Vista Foundation Fund III, L.P.
10/13/2016
20161786 | G | AT&T Inc., Deutsche Telekom AG, AT&T Inc.
20161787 | G | Deutsche Telekom AG, AT&T Inc., Deutsche Telekom AG.
20161822 | G | Harbert Power Fund V, LLC, FREI Bravo AIV, L.P., Harbert Power Fund V, LLC.
20161823 | G | Liaoyang Zhongwang Industry Development Center L.P., OCM Opportunities ALS Holdings, L.P., Liaoyang Zhongwang Industry Development Center L.P.
20161825 | G | Inversiones Angelini y Compania Limitada, Delek US Holdings, Inc., Inversiones Angelini y Compania Limitada.
20161826 | G | DTE Energy, M3 Midstream LLC, DTE Energy.
20161829 | G | GTCR Fund XI/B LP, Riverchase Holdings MSO, LLC, GTCR Fund XI/B LP.
20161831 | G | Accenture plc, Management Consulting Group PLC, Accenture plc.
20161833 | G | Energy Trading Innovations LLC, Anadarko Petroleum Corporation, Energy Trading Innovations LLC.
20161838 | G | TMC Parent Corp., Terra Millennium Corporation, TMC Parent Corp.
20161839 | G | Vista Equity Partners Fund VI, L.P., Infoblox, Inc., Vista Equity Partners Fund VI, L.P.
20161842 | G | Altaris Health Partners III, L.P., Levine Leichtman Capital Partners SBIC Fund, L.P., Altaris Health Partners III, L.P.
20161848 | G | Ronald O. Perelman, SIGA Technologies, Inc., Ronald O. Perelman.
20170001 | G | Constellation Brands, Inc., High West Holdings, LLC, Constellation Brands, Inc.
10/14/2016
20161792 | G | Providence Equity L.L.C., Nicholas S. Schorsch, Providence Equity L.L.C.
20170014 | G | KBR, Inc., Crown Enterprises, L.L.C., KBR, Inc.
10/17/2016
20161795 | G | Pershing Square, L.P., Chipotle Mexican Grill, Inc., Pershing Square, L.P.
20161796 | G | Pershing Square International, Ltd., Chipotle Mexican Grill, Inc., Pershing Square International, Ltd.
20161797 | G | Pershing Square Holdings, Ltd., Chipotle Mexican Grill, Inc., Pershing Square Holdings, Ltd.
20161828 | G | Total S.A., Chesapeake Energy Corporation, Total S.A.
20161830 | G | John Menzies plc, BBA Aviation plc, John Menzies plc.
20170006 | G | Tempe Holdco Corporation, DTS Inc., Tempe Holdco Corporation.
20170016 | G | Argonaut Private Equity Fund III, L.P., Wynnchurch Capital Partners II, L.P., Argonaut Private Equity Fund III, L.P.
20170024 | G | Rice Energy Inc., Vantage Energy Holdings, LLC, Rice Energy Inc.
20170025 | G | Ferdinand Porsche Familien-Privatstiftung, Navistar International Corporation, Ferdinand Porsche Familien-Privatstiftung.
20170031 | G | Frank's International N.V., Bain Capital Fund X, L.P., Frank's International N.V.
20170033 | G | Rice Midstream Partners LP, Rice Energy Inc., Rice Midstream Partners LP.
20170037 | G | Quantum Energy Partners V, LP, Rice Energy Inc., Quantum Energy Partners V, LP.
20170038 | G | Quantum Energy Partners IV, LP, Rice Energy Inc., Quantum Energy Partners IV, LP.
20170050 | G | Graham Partners IV, L.P., Frontenac IX Private Capital Limited Partnership, Graham Partners IV, L.P.
10/18/2016
20161832 | G | Roche Holding Ltd., AT Impf GmbH, Roche Holding Ltd.
20170009 | G | Allergan plc, Tobira Therapeutics, Inc., Allergan plc.
10/19/2016
20170018 | G | Winnebago Industries, Inc., Grand Design RV, LLC, Winnebago Industries, Inc.
20170021 | G | Constellation Brands, Inc., Charles Smith, Constellation Brands, Inc.
20170028 | G | John Bean Technologies Corporation, Dover Corporation, John Bean Technologies Corporation.
20170047 | G | Ardian LBO Fund VI A S.L.P., Daniel Weber, Ardian LBO Fund VI A S.L.P.
10/21/2016
20161820 | G | Great Plains Energy Incorporated, Westar Energy, Inc., Great Plains Energy Incorporated.
20161841 | G | Lovell Minnick Equity Partners IV LP, Blake Johnson, Lovell Minnick Equity Partners IV LP.
20170049 | G | Global Via Infraestructuras, S.A., Macquarie Group Limited, Global Via Infraestructuras, S.A.
20170056 | G | Eldorado Resorts, Inc., Isle of Capri Casinos, Inc., Eldorado Resorts, Inc.
20170062 | G | Aon plc, New Mountain Partners III, L.P., Aon plc.
20170063 | G | Michael J. Angelakis, Providence Equity Partners VII-A L.P., Michael J. Angelakis.
20170064 | G | KAMC Holdings, Inc., Cortec Group Fund IV, L.P., KAMC Holdings, Inc.
10/24/2016
20160842 | G | AEA Investors Fund V LP, Walgreens Boots Alliance, Inc., AEA Investors Fund V LP.
20161815 | G | Anadarko Petroleum Corporation, Freeport-McMoRan Inc., Anadarko Petroleum Corporation.
20161817 | G | Renesas Electronics Corporation, Intersil Corporation, Renesas Electronics Corporation.
20170075 | G | Montagu V LP, L'Air Liquide S.A., Montagu V LP.
10/25/2016
20161835 | G | Platinum Equity Capital Partners III, L.P., Emerson Electric Co., Platinum Equity Capital Partners III, L.P.
20170032 | G | salesforce.com, inc., Krux Digital, Inc., salesforce.com, inc.
20170034 | G | Tench Coxe, NVIDIA Corporation, Tench Coxe.
20170036 | G | Accenture plc, DayNine Consulting, Inc., Accenture plc.
20170078 | G | Odyssey Investment Partners Fund IV AIV I, L.P., Evergreen Pacific Partners II, L.P., Odyssey Investment Partners Fund IV AIV I, L.P.
10/26/2016
20170011 | G | Manta Holdings, L.P., Intel Corporation, Manta Holdings, L.P.
20170041 | G | ArcLight Energy Partners Fund VI, L.P., American Electric Power Company, Inc., ArcLight Energy Partners Fund VI, L.P.
20170046 | G | Hitachi, Ltd., Bradken Limited, Hitachi, Ltd.
20170076 | G | WellCare Health Plans, Inc., California Physicians' Service, WellCare Health Plans, Inc.
20170077 | G | Consolidated Edison, Inc., Renewable Energy Trust Capital, Inc., Consolidated Edison, Inc.
20170079 | G | Calpine Corporation, Noble Group Limited, Calpine Corporation.
10/27/2016
20170012 | G | Bertram Growth Capital II, L.P., Trademark Games Holdings, LLC, Bertram Growth Capital II, L.P.
20170040 | G | Carlyle Partners VI, L.P., ProKarma, Inc., Carlyle Partners VI, L.P.
20170057 | G | Kendall Automotive Group, Inc., Cal Worthington Trust, Kendall Automotive Group, Inc.
20170070 | G | Integral 2 Limited Partnership, Aderans Company Limited, Integral 2 Limited Partnership.
20170072 | G | Aralez Pharmaceuticals Inc., AstraZeneca PLC, Aralez Pharmaceuticals Inc.
20170087 | G | AMETEK, Inc., Main Street Hi-Rel, LLC, AMETEK, Inc.
20161845 | G | Elliott International Limited, Mentor Graphics Corporation, Elliott International Limited.
20161846 | G | Elliott Associates, L.P., Mentor Graphics Corporation, Elliott Associates, L.P.
20161847 | G | Windjammer Senior Equity Fund IV, L.P., Advanced Instruments, Inc., Windjammer Senior Equity Fund IV, L.P.
20170074 | G | ABRY Partners VII, L.P., Kenneth A. Barnett, ABRY Partners VII, L.P.
20170086 | G | Polaris Industries Inc., ORIX Corporation, Polaris Industries Inc.
20170088 | G | Al Aqua (Cayman) Holdings Limited, Centerbridge Capital Partners (Cayman), L.P., Al Aqua (Cayman) Holdings Limited.
20170090 | G | Dril-Quip, Inc., Pearce Industries, Inc., Dril-Quip, Inc.
20170092 | G | Kirin Holdings Company, Ltd., The Brooklyn Brewery Corporation, Kirin Holdings Company, Ltd.
20170094 | G | Packaging Corporation of America, Robert W. Haddad, Sr. and Helen L. Haddad, Packaging Corporation of America.
20170099 | G | QUIKRETE Holdings, Inc., Contech Holdings, Inc., QUIKRETE Holdings, Inc.
20170100 | G | LAL Family Partners L.P., Luxory Brand Partners (BVI) Limited, LAL Family Partners L.P.
20170106 | G | CGI Group, Inc., William C. Robichaud, Sr., CGI Group, Inc.

FOR FURTHER INFORMATION CONTACT: Theresa Kingsberry, Program Support Specialist, Federal Trade Commission Premerger Notification Office Bureau of Competition, Room CC-5301, Washington, DC 20024, (202) 326-3100.

By direction of the Commission.
Donald S. Clark,
Secretary.

[FR Doc. 2016-28472 Filed 11-25-16; 8:45 am]

BILLING CODE 6750-01-P